DEPARTMENT OF ENERGY

Federal Energy Regulatory Commission

[Docket No. EG03-36-000]

Conectiv Mid-Merit, Inc; Notice of Filing

January 21, 2003.

Take notice that on January 15, 2003, Conectiv Mid-Merit, Inc. (CMM) filed with the Federal Energy Regulatory Commission (Commission) an Application for Determination of Exempt Wholesale Generator Status (Application) pursuant to Section 32(a)(1) of the Public Utility Holding Company Act of 1935 (PUHCA), all as more fully explained in the Application.

CMM states that it is in the process of permitting and developing several sites in the Commonwealth of Pennsylvania, one or more of which it intends to use for the location and construction of one or more 500 MW combined cycle generating modules (each 500 MW module is an Eligible Facility for the purposes of PUHCA and the Commission's EWG regulations). CMM anticipates that each Eligible Facility will be interconnected to the transmission system operated by the PJM Interconnection, LLC via transmission voltage facilities. CMM states that it has served this filing on the Maryland Public Service Commission, Delaware Public Service Commission, New Jersey Board of Public Utilities, Virginia State Corporation Commission, District of Columbia Public Service Commission and the Securities and Exchange Commission (SEC).

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: February 11, 2003.

Magalie R. Salas,
Secretary.

[FR Doc. 03-2131 Filed 1-28-03; 8:45 am]

BILLING CODE 6717-01-P